OFFICE OF SCIENCE AND TECHNOLOGY POLICY

Subcommittee on Forensic Science; Committee on Science; National Science and Technology Council

ACTION: General Notice. Nominations for Interagency Working Group participants.

SUMMARY: The Subcommittee on Forensic Science of the National Science and Technology Council's (NSTC's) Committee on Science is now accepting nominations for Interagency Working Group participants. Nominees must be a State, local, or tribal government elected officer (or their designated employee with authority to act on their behalf).

DATES AND ADDRESSES: The Subcommittee must receive all nominations for Interagency Working Group participants by 5 p.m. EDT March 12, 2010. Nominations should be submitted via electronic mail (e-mail) to Robin W. Jones, Executive Secretary, at Robin.W.Jones@usdoj.gov.

Kenneth E. Melson,
Co-Chair, Subcommittee on Forensic Science.

[FR Doc. 2010-4899 Filed 3-8-10; 8:45 am]

BILLING CODE 4410-FY-P